DEPARTMENT OF TRANSPORTATION

National Highway Traffic Safety Administration

49 CFR Part 571

[Docket No. NHTSA 2006-24390]

Federal Motor Vehicle Safety Standards; Occupant Crash Protection

AGENCY: National Highway Traffic Safety Administration (NHTSA), DOT.

ACTION: Denial of petition for rulemaking.

SUMMARY: This document denies a petition for rulemaking submitted by Mr. James E. Hofferberth asking the agency to take a variety of steps related to incorporating dummies representing three-year-old, six-year-old and ten-year-old children and 95th percentile adult males into the agency's frontal crash test programs.

FOR FURTHER INFORMATION CONTACT: For Non-Legal Issues: Ms. Catherine Carneal, Office of Crashworthiness Standards, National Highway Traffic Safety Administration, 400 Seventh Street, SW., Washington, DC 20590, Telephone: (202) 366-1284, Facsimile: (202) 366-7002.

For Legal Issues: Mr. Chris Calamita, Office of Chief Counsel, National Highway Traffic Safety Administration, 400 Seventh Street, SW., Washington, DC 20590, Telephone: (202) 366-2992, Facsimile: (202) 366-3820.

SUPPLEMENTARY INFORMATION:

Summary of Petition

On September 9, 2005, Mr. James E. Hofferberth submitted a petition for rulemaking asking the agency to require additional safety measures related to protection of child and large adult male occupants. He stated that the likelihood and severity of injuries to vehicle occupants is strongly dependent on their size, and noted that the agency's frontal crash test standard specifies test requirements using only 50th percentile adult male dummies and 5th percentile adult female dummies. The petitioner stated that dummies representing three-year-old, six-year-old and ten-year-old children and 95th percentile adult males are in existence and should be incorporated into the agency's frontal crash test programs.

More specifically, Mr. Hofferberth's petition made four requests. The first was that any motor vehicles certified for compliance with the crash test requirements of FMVSS No. 208, “Occupant crash protection,” also be required to “have a permanent, prominently displayed: (a) Notice that specifies the occupant sizes for which the vehicle is not in compliance with the crash test performance requirements of FMVSS No. 208, and (b) warning that such persons, other than small children using a child restraint system certified for compliance with FMVSS No. 213, “Child restraint systems,” are not protected by FMVSS No. 208, “Occupant crash protection,” and may be exposed to a higher risk of injury and fatality when riding in the vehicle.” Second, the petitioner requested an “order that vehicles claimed by the manufacturer to be in compliance with the performance requirements of FMVSS No. 208 for occupant sizes other than fifth percentile adult female and fiftieth percentile adult male be incorporated in the compliance test program to verify the manufacturer's claim.” Third, he asked “that crash testing using anthropomorphic dummies representing three-year-old children, six-year-old children, ten-year-old children, and ninety-fifth percentile adults be routinely included in the New Car Assessment Program (NCAP).” Finally, the petitioner asked that the agency amend FMVSS No. 208 to add crash test requirements using dummies representing three-year-old children, six-year-old children, ten-year-old children, and ninety-fifth percentile adults.

Mr. Hofferberth did not submit any data in support of his petition.

Analysis and Decision

We begin by noting that the protection of children in motor vehicle crashes is one of our agency's highest priorities. We have taken a number of actions in recent years to improve child safety, and have a number of ongoing actions.

For example, on June 24, 2003, we published in the Federal Register (68 FR 37620) a final rule making a number of revisions in our safety standard for child restraint systems, including amendments for incorporating improved test dummies, updated procedures used to test child restraints, and an extension of the standard to apply it to child restraints recommended for use by children up to 65 pounds (30 kilograms). Child restraints will be tested using the most advanced test dummies available today and tested to conditions representing current model vehicles.

On August 31, 2005, we published in the Federal Register (70 FR 51720) a notice of proposed rulemaking (NPRM) to further expand the applicability of our safety standard on child restraint systems to restraints recommended for children up to 80 pounds. That proposal would require booster seats and other restraints to meet performance criteria when tested with a crash test dummy representative of a 10-year-old child.

NHTSA has also been evaluating the merits of including child dummies in the NCAP program pursuant to the Transportation Recall Enhancement, Accountability, and Documentation (TREAD) Act. Section 14(b) of this Act directed the Secretary of Transportation to determine “whether to include child restraints in each vehicle crash tested under NCAP.” Two notices have been published on the agency's efforts in this area: Notice of final decision on the NCAP programs for child safety, published in the Federal Register (70 FR 29815) on May 24, 2005, and response to comments, notice of decision for NCAP, published in the Federal Register (70 FR 75536) on December 20, 2005. These documents discuss the agency's decision to maintain the current frontal impact test procedures while conducting the necessary research to evaluate if and how the program could be modified to include child dummies. Concurrently with that effort, the agency is conducting a special comprehensive review of the entire NCAP program, which is expected to be completed later in 2006.

All of Mr. Hofferberth's various requests relate to incorporating additional dummies to the agency's frontal crash test programs. Implementation of any of his requests would require substantial agency resources. Extensive research and testing would be needed to support a rulemaking and/or develop a rating program which incorporates child and/or large size dummies. Among other things, the agency would need to thoroughly review equipment and test procedures for validity and reliability with respect to real-world collisions. NHTSA currently has an insufficient amount of data on child dummies in a FMVSS No. 208 crash environment to conduct a thorough crash test analysis. Also, the agency has not conducted rulemaking to include the 95th percentile adult male dummy in the Code of Federal Regulations, nor conducted the research and testing that would be needed to add this dummy to NCAP or to propose to use it as part of the Federal motor vehicle safety standards.

These same issues are also relevant to the petitioner's request relating to requiring manufacturers to provide labels as to whether a vehicle would pass the crash test requirements of FMVSS No. 208 with dummies other than those specified by the standard.¹ To enable a determination to be made as to whether a vehicle would pass these requirements, the agency would need to conduct the necessary research and analyses to standardize test procedures, injury criteria, and performance limits for these dummies in these tests.

¹ We note that the agency has not conducted an assessment as to its authority to issue this type of requirement, and it is unnecessary to do so in order to respond to this petition.

Finally, if the agency were to propose adding new test requirements to FMVSS No. 208 or other requirements that manufacturers would be required to meet, it would also need to carefully assess costs and benefits.

After carefully considering Mr. Hofferberth's petition, the agency has decided to deny it. NHTSA has limited resources, and, for the reasons discussed above, rulemaking to implement the petitioner's requests would require substantial agency resources. While the agency may in the future consider adding additional dummies to its frontal crash test and/or other programs, the petitioner did not provide any data or supporting documentation that convinced us that we should change our current priorities and devote additional resources in this area.

In accordance with 49 CFR part 552, this completes the agency's review of the petition.

Authority: 49 U.S.C. 322, 30111, 30115, 30117 and 30162; delegation of authority at 49 CFR 1.50.

Issued on: April 24, 2006.
Stephen R. Kratzke,
Associate Administrator for Rulemaking.

[FR Doc. E6-6423 Filed 4-27-06; 8:45 am]

BILLING CODE 4910-59-P